ADMINISTRATIVE CONFERENCE OF THE UNITED STATES

Notice of Public Meetings of the Committee on Rulemaking of the Administrative Conference of the United States

AGENCY: Administrative Conference of the United States.

ACTION: Notice of public meetings.

SUMMARY: Notice is hereby given of two public meetings of the Committee on Rulemaking of the Assembly of the Administrative Conference of the United States. At these meetings, the committee will consider a draft report and a draft recommendation on the issue of midnight rules. Complete details regarding the committee meeting, the contours of the Midnight Rules Project, how to attend (including information about remote access and obtaining special accommodations for persons with disabilities), and how to submit comments to the committee can be found in the “About” section of the Conference's Web site, at http://www.acus.gov. Click on “About,” then on “The Committees,” and then on “Committee on Rulemaking.”

Comments may be submitted by email to Comments@acus.gov, with “Committee on Rulemaking” in the subject line, or by postal mail to “Committee on Rulemaking Comments” at the address given below.

DATES: Thursday, February 23, 2012 from 9:30 a.m. to 12:30 p.m. and Wednesday, March 21, 2012 from 9:30 a.m. to 12:30 p.m.

ADDRESSES: The meetings will be held at 1120 20th Street NW., Suite 706 South, Washington, DC 20036.

FOR FURTHER INFORMATION CONTACT: Emily Schleicher Bremer, Designated Federal Officer, Administrative Conference of the United States, 1120 20th Street NW., Suite 706 South, Washington, DC 20036; Telephone (202) 480-2080.

SUPPLEMENTARY INFORMATION: The Committee on Rulemaking will meet to discuss a draft report on the Midnight Rules Project. The report, prepared by Professor Jack Beermann (Boston University School of Law), presents the findings of a study on the issue of midnight rules and proposed procedures that could improve presidential and agency practices with regard to midnight rules. At its meetings, the Committee on Rulemaking will also consider a draft recommendation based on the consultant's report.

Dated: January 18, 2012.
Shawne C. McGibbon,
General Counsel.

[FR Doc. 2012-1200 Filed 1-20-12; 8:45 am]

BILLING CODE 6110-01-P